DEPARTMENT OF ENERGY

Federal Energy Regulatory Commission

[Docket No. EL01-95-000, et al.]

Kinder Morgan Power Company, et al.; Electric Rate and Corporate Regulation Filings

June 26, 2001.

Take notice that the following filings have been made with the Commission:

1. Kinder Morgan Power Co.

[Docket No. EL01-95-000]

Take notice that on June 15, 2001, Kinder Morgan Power Company (Petitioner), on behalf of certain grantor trusts, business trusts and/or limited liability companies of which financial institutions would be the sole beneficiaries or members filed with the Federal Energy Regulatory Commission (Commission), a petition for declaratory order disclaiming jurisdiction and request for expedited consideration.

Petitioner is seeking a disclaimer of jurisdiction on connection with a lease financing involving three Facilities under development.

Comment date: July 16, 2001, in accordance with Standard Paragraph E at the end of this notice.

2. Tucson Electric Power Company

Docket Nos. ER01-208-003, ER00-771-005

Take notice that on June 20, 2001, Tucson Electric Power Company (Tucson) tendered for filing its compliance filing in response to the Commission's order dated November 30, 2000, which required Tucson to modify its Protocol Manual found as Attachment K to its open access transmission tariff.

Comment date: July 11, 2001, in accordance with Standard Paragraph E at the end of this notice.

3. Progress Energy on Behalf of Carolina Power & Light Company

[Docket No. ER01-1708-001]

Take notice that on June 20, 2001, Carolina Power & Light Company (CP&L) amended the Service Agreement originally filed in this docket to reflect the correct Service Agreement number. Service to this eligible buyer will be in accordance with the terms and conditions of CP&L's Market-Based Rates Tariff, FERC Electric Tariff No. 4, for sales of capacity and energy at market-based rates. Copies of the filing were served upon the North Carolina Utilities Commission and the South Carolina Public Service Commission.

CP&L requests an effective date of June 1, 2001 for this Service Agreement.

Comment date: July 11, 2001, in accordance with Standard Paragraph E at the end of this notice.

4. Fountain Valley Power, L.L.C.

[Docket No. ER01-1784-001

Take notice that on June 20, 2001, Fountain Valley Power, L.L.C. and Public Service Company of Colorado, tendered for filing with the Federal Energy Regulatory Commission (Commission), revised First Substitute Service Agreement No. 1 in accordance with the Commission's June 11, 2001 Order in Docket No. ER01-1784-000.

Comment date: July 11, 2001, in accordance with Standard Paragraph E at the end of this notice.

5. Illinois Power Company

[Docket No. ER01-1789-001]

Take notice that on June 20, 2001, Illinois Power Company (Illinois Power), 500 South 27th Street, Decatur, Illinois 65251-2200, filed with the Commission a service agreement designation as required by Order No. 614 and the Letter Order issued on May 24, 2001 in this docket.

Comment date: July 11, 2001, in accordance with Standard Paragraph E at the end of this notice.

6. Warren Power, LLC

[Docket No. ER01-1804-001]

Take notice that on June 20, 2001, Warren Power, LLC tendered a compliance filing for authorization to sell power at market-based rates. Copies of this filing have been served on the Arkansas Public Service Commission, Mississippi Public Service Commission, Louisiana Public Service Commission, Public Utility Commission of Texas, and the Council of the City of New Orleans.

Comment date: July 11, 2001, in accordance with Standard Paragraph E at the end of this notice.

7. Beacon Generating LLC

[Docket No. ER01-2355-000]

Take notice that on June 19, 2001, Becaon Generating LLC (Beacon), tendered for filing with the Federal Energy Regulatory Commission (Commission), a Petition requesting acceptance of Beacon's Initial Rate Schedule FERC No. 1, Waivers and Blanket Authority.

Comment date: July 10, 2001, in accordance with Standard Paragraph E at the end of this notice.

8. Xcel Energy Services Inc.

[Docket No. ER01-2357-000]

Take notice that on June 20, 2001, Xcel Energy Services Inc. (XES), on behalf of Southwestern Public Service Company (Southwestern), submitted for filing a Transaction Agreement and Master Power Sale Agreement (Master Agreement) between Southwestern and Midwest Energy, Inc., The Master Agreement is an umbrella service agreement under Southwestern's Rate Schedule for Market-Based Power Sales (FERC Electric Tariff, Second Revised Volume No. 3). XES requests that this agreement become effective on May 31, 2001.

Comment date: July 11, 2001, in accordance with Standard Paragraph E at the end of this notice.

9. Virginia Electric and Power Company

[Docket No. ER01-2362-000]

Take notice that on June 20, 2001, Virginia Electric and Power Company (Dominion Virginia Power) tendered for filing two unexecuted Generator Interconnection and Operating Agreements (Interconnection Agreements) with Old Dominion Electric Cooperative (Old Dominion) for the Louisa CT Project and the Marsh Run Project. The Interconnection Agreements set forth the terms and conditions under which Dominion Virginia Power will provide interconnection service for the two projects. Dominion Virginia Power requests an effective date of August 20, 2001 for the two Interconnection Agreements.

Copies of the filing were served upon Old Dominion and the Virginia State Corporation Commission.

Comment date: July 11, 2001, in accordance with Standard Paragraph E at the end of this notice.

10. PPL EnergyPlus, LLC

[Docket No. ER01-2363-000]

Take notice that on June 20, 2001, PPL EnergyPlus, LLC (PPL EnergyPlus) filed with the Commission a Generation Supply Agreement between PPL EnergyPlus and PPL Electric Utilities Corporation. PPL EnergyPlus requests that the Commission permit the Generation Supply Agreement to become effective on January 1, 2002.

PPL EnergyPlus states that it has served a copy of this filing on PPL Electric Utilities Corporation.

Comment date: July 11, 2001, in accordance with Standard Paragraph E at the end of this notice.

11. California Independent System Operator Corporation

[Docket No. ER01-2364-000]

Take notice that the California Independent System Operator Corporation, on June 20, 2001, tendered for filing an Amendment to Schedule 1 of the Participating Generator Agreement between the ISO and Fresno Cogeneration Partners, LP (Fresno Cogen) for acceptance by the Commission. The ISO states that this filing has been served on Fresno Cogen and the California Public Utilities Commission.

The ISO is requesting waiver of the 60-day notice requirement to allow the Participating Generator Agreement to be made effective June 15, 2001.

Comment date: July 11, 2001, in accordance with Standard Paragraph E at the end of this notice.

12. California Independent System Operator Corporation

[Docket No. ER01-2365-000]

Take notice that the California Independent System Operator Corporation, on June 20, 2001, tendered for filing an Amendment to Schedule 1 of the Participating Generator Agreement between the ISO and Sierra Power Corporation (Sierra Power) for acceptance by the Commission. The ISO states that this filing has been served on Sierra Power and the California Public Utilities Commission.

The ISO is requesting waiver of the 60-day notice requirement to allow the Participating Generator Agreement to be made effective June 13, 2001.

Comment date: July 11, 2001, in accordance with Standard Paragraph E at the end of this notice.

13. New England Power Company

[Docket No. ER01-2366-000]

Take notice that on June 20, 2001, New England Power Company (NEP) submitted for filing a Related Facilities Agreement (Agreement) between NEP and Sithe Fore River Development LLC (Sithe) for replacement and/or relocation of certain transmission facilities owned by NEP. The Agreement is designated as NEP's Rate Schedule FERC No. 510. Copies of the filing were served upon Sithe and the Department of Telecommunications and Energy of the Commonwealth of Massachusetts.

Comment date: July 11, 2001, in accordance with Standard Paragraph E at the end of this notice.

14. Reliant Energy Aurora, LP

[Docket No. ER01-2367-000]

Take notice that on June 21, 2001 Reliant Energy Aurora, LP (Reliant Aurora) tendered for filing a Master Power Purchase and Sale Agreement between Reliant Energy Services, Inc. (RES) as agent for Reliant Aurora and Alliant Energy Corporate Services, Inc. (Alliant) as agent for Wisconsin Electric Power Company or IES Utilities, Inc or Interstate Power Company establishing WEPCO as a customer under Reliant Aurora's market-based tariff. Reliant Aurora its requests an effective date of June 1, 2001.

Reliant Aurora states that a copy of the filing was served on Alliant.

Comment date: July 12, 2001, in accordance with Standard Paragraph E at the end of this notice.

15. Reliant Energy Aurora, LP

[Docket No. ER01-2368-000]

Take notice that on June 21, 2001 Reliant Energy Aurora, LP (Reliant Aurora) tendered for filing a service agreement establishing Reliant Energy Services, Inc. (RES) as a customer under Reliant Aurora's market-based rate tariffs. Reliant Aurora requests an effective date of June 1, 2001 for the service agreement.

Comment date: July 12, 2001, in accordance with Standard Paragraph E at the end of this notice.

16. Wisconsin Public Service Corporation

[Docket No. ER01-2369-000]

Take notice that, on June 21, 2001, Wisconsin Public Service Corporation (WPSC) filed an unexecuted long-term service agreement with Duke Energy Lee, LLC (Duke) under WPSC's market-based rate tariff, FERC Electric Tariff, Third Revised Volume No. 10 (Tariff). A copy of the filing was served upon Duke.

WPSC requests that the Commission waive its notice of filing requirements to allow the service agreement to become effective on May 22, 2001.

Comment date: July 12, 2001, in accordance with Standard Paragraph E at the end of this notice.

17. Idaho Power Company

[Docket No. ER01-2372-000]

Take notice that on June 21, 2001, Idaho Power Company filed a Service Agreement for Firm Point-to-Point Transmission Service between Idaho Power Duke Energy Trading and Marketing, LLC, under its open access transmission tariff in the above-captioned proceeding.

Idaho Power requests the Commission accept this Service Agreement for filing and designate an effective date of June 11, 2001.

Comment date: July 12, 2001, in accordance with Standard Paragraph E at the end of this notice.

18. Idaho Power Company

[Docket No. ER01-2373-000]

Take notice that on June 21, 2001, Idaho Power Company filed a Service Agreement for Non-Firm Point-to-Point Transmission Service between Idaho Power Duke Energy Trading and Marketing, LLC, under its open access transmission tariff in the above-captioned proceeding.

Idaho Power requests the Commission accept this Service Agreement for filing and designate an effective date of June 11, 2001.

Comment date: July 12, 2001, in accordance with Standard Paragraph E at the end of this notice.

19. Puget Sound Energy, Inc.

[Docket No. ER01-2374-000]

Take notice that on June 21, 2001, Puget Sound Energy, Inc., as Transmission Provider, tendered for filing a service agreement for Firm Point-To-Point Transmission Service and a service agreement for Non-Firm Point-To-Point Transmission Service with Duke Energy Trading and Marketing, LLC (DETM), as Transmission Customer. A copy of the filing was served upon DETM.

Comment date: July 12, 2001, in accordance with Standard Paragraph E at the end of this notice.

20. Michigan Electric Transmission Company

[Docket No. ER01-2375-000]

Take notice that on June 21, 2001 Michigan Electric Transmission Company (Michigan Transco) tendered for filing an unexecuted Generator Interconnection and Operating Agreement Between Consumers and Covert Generating Company, LLC (Generator) (Agreement). Generator had requested that the unexecuted Agreement be filed. Consumers requested that the Agreement be allowed to become effective June 21, 2001.

Copies of the filing were served upon Generator and the Michigan Public Service Commission.

Comment date: July 12, 2001, in accordance with Standard Paragraph E at the end of this notice.

21. Tucson Electric Power Company

[Docket No. ER01-2384-000]

Take notice that on June 20, 2001, Tucson Electric Power Company (Tucson) filed proposed modifications to its Retail Competition Protocols (Attachment K of Tucson's open access transmission tariff), reflecting changes to the definitions of System Incremental Cost and Market Price. A copy of this filing has been served on all parties to the official service list.

Comment date: July 11, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16665 Filed 7-2-01; 8:45 am]

BILLING CODE 6717-01-P